DEPARTMENT OF ENERGY

Federal Energy Regulatory Commission

Combined Notice of Filings #1

Take notice that the Commission received the following electric corporate filings:

Docket Numbers: EC15-43-000.

Applicants: Niagara Generation, LLC.

Description: Application of Niagara Generation, LLC and NiGen, LLC for Expedited Approval of Intra-Corporate Transfer Under Section 203 of the Federal Power Act.

Filed Date: 12/1/14.

Accession Number: 20141201-5300.

Comments Due: 5 p.m. ET 12/22/14.

Take notice that the Commission received the following electric rate filings:

Docket Numbers: ER10-3301-005; ER10-2757-005; ER10-2756-005.

Applicants: Arlington Valley, LLC, GWF Energy LLC, Griffith Energy LLC.

Description: Notification of Non-Material Change in Status of the Star West Companies.

Filed Date: 12/1/14.

Accession Number: 20141201-5302.

Comments Due: 5 p.m. ET 12/22/14.

Docket Numbers: ER14-2569-001.

Applicants: Alabama Power Company.

Description: Compliance filing per 35: Attachment J-2 (SGIP) Filing to Comply with Errata relating to Order No. 792 to be effective 8/1/2014.

Filed Date: 12/1/14.

Accession Number: 20141201-5230.

Comments Due: 5 p.m. ET 12/22/14.

Docket Numbers: ER15-539-000.

Applicants: Puget Sound Energy, Inc.

Description: Compliance filing per 35: Order No. 676-H Compliance Filing to be effective 2/2/2015.

Filed Date: 12/1/14.

Accession Number: 20141201-5225.

Comments Due: 5 p.m. ET 12/22/14.

Docket Numbers: ER15-540-000.

Applicants: Alabama Power Company.

Description: Compliance filing per 35: OATT Attachment O Filing in Compliance with Order No. 676-H to be effective 2/2/2015.

Filed Date: 12/1/14.

Accession Number: 20141201-5226.

Comments Due: 5 p.m. ET 12/22/14.

Docket Numbers: ER15-541-000.

Applicants: Alabama Power Company.

Description: § 205(d) rate filing per 35.13(a)(2)(iii): OATT Attachment T Amdendment Filing to be effective 12/1/2014.

Filed Date: 12/1/14.

Accession Number: 20141201-5228.

Comments Due: 5 p.m. ET 12/22/14.

Docket Numbers: ER15-542-000.

Applicants: Midcontinent Independent System Operator, Inc.

Description: § 205(d) rate filing per 35.13(a)(2)(iii): 2014-12-01_Land Cost Recovery Filing to be effective 1/31/2015.

Filed Date: 12/1/14.

Accession Number: 20141201-5236.

Comments Due: 5 p.m. ET 12/22/14.

Docket Numbers: ER15-543-000.

Applicants: Black Hills Power, Inc.

Description: Compliance filing per 35: Order No. 676-H Compliance Filing to be effective 5/15/2015.

Filed Date: 12/1/14.

Accession Number: 20141201-5258.

Comments Due: 5 p.m. ET 12/22/14.

Docket Numbers: ER15-544-000.

Applicants: Alcoa Power Generating Inc.

Description: Compliance filing per 35: Order No. 676-H Compliance Filing to be effective 12/2/2014 under ER15-544 Filing Type: 80.

Filed Date: 12/1/14.

Accession Number: 20141201-5261.

Comments Due: 5 p.m. ET 12/22/14.

Docket Numbers: ER15-545-000.

Applicants: Black Hills/Colorado Electric Utility Co.

Description: Compliance filing per 35: Order No. 676-H Compliance Filing to be effective 5/15/2015.

Filed Date: 12/1/14.

Accession Number: 20141201-5266.

Comments Due: 5 p.m. ET 12/22/14.

Docket Numbers: ER15-546-000.

Applicants: Cheyenne Light, Fuel and Power Company.

Description: Compliance filing per 35: Order No. 676-H Compliance Filing to be effective 5/15/2015.

Filed Date: 12/1/14.

Accession Number: 20141201-5271.

Comments Due: 5 p.m. ET 12/22/14.

Docket Numbers: ER15-547-000.

Applicants: Avista Corporation.

Description: Compliance filing per 35: Avista Corp OATT Order 676-H Compliance Filing to be effective 2/2/2015.

Filed Date: 12/2/14.

Accession Number: 20141202-5000.

Comments Due: 5 p.m. ET 12/23/14.

Docket Numbers: ER15-548-000.

Applicants: Midcontinent Independent System Operator, Inc.

Description: Request for Temporary Waiver of Midcontinent Independent System Operator, Inc.

Filed Date: 12/1/14.

Accession Number: 20141201-5287.

Comments Due: 5 p.m. ET 12/22/14.

Docket Numbers: ER15-549-000.

Applicants: Southern Company Services, Inc.

Description: Request for Waiver of Southern Company Services, Inc. (as Agent).

Filed Date: 12/1/14.

Accession Number: 20141201-5298.

Comments Due: 5 p.m. ET 12/22/14.

Docket Numbers: ER15-550-000.

Applicants: New York Independent System Operator, Inc.

Description: Request of the New York Independent System Operator for Waivers of North American Energy Standards Board Wholesale Electric Quadrant Standards under ER15-550.

Filed Date: 12/1/14.

Accession Number: 20141201-5299.

Comments Due: 5 p.m. ET 12/22/14.

Docket Numbers: ER15-551-000.

Applicants: Southwest Power Pool, Inc.

Description: § 205(d) rate filing per 35.13(a)(2)(iii): 2390R2 Westar Energy, Inc. NITSA and NOA to be effective8/1/2014.

Filed Date: 12/2/14.

Accession Number: 20141202-5036.

Comments Due: 5 p.m. ET 12/23/14.

Docket Numbers: ER15-552-000.

Applicants: Southwest Power Pool, Inc.

Description: § 205(d) rate filing per 35.13(a)(2)(iii): 1894R3 Westar Energy, Inc. NITSA and NOA to be effective 8/1/2014.

Filed Date: 12/2/14.

Accession Number: 20141202-5037.

Comments Due: 5 p.m. ET 12/23/14.

Docket Numbers: ER15-553-000.

Applicants: San Diego Gas & Electric Company.

Description: Second Annual Informational Filing of Fourth Transmission Owner Rate Formula rate mechanism of San Diego Gas & Electric Company.

Filed Date: 12/1/14.

Accession Number: 20141201-5301.

Comments Due: 5 p.m. ET 12/22/14.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2014.
Nathaniel J. Davis, Sr.,
Deputy Secretary.

[FR Doc. 2014-28739 Filed 12-8-14; 8:45 am]

BILLING CODE 6717-01-P